DEPARTMENT OF HOMELAND SECURITY

Coast Guard

46 CFR Parts 143 and 144

[Docket No. USCG-2006-24412]

RIN 1625-AB06

Inspection of Towing Vessels

AGENCY: Coast Guard, DHS.

ACTION: Final rule; correction.

SUMMARY: The Coast Guard is correcting a final rule that appeared in the Federal Register on June 20, 2016 (81 FR 40004). The document issued safety regulations governing the inspection, standards, and safety management systems of towing vessels. In that document there are errors in three regulations that refer to the date July 20, 2016. This rule corrects those errors.

DATES: Effective July 20, 2016.

FOR FURTHER INFORMATION CONTACT: Lieutenant Commander William Nabach, Project Manager, CG-OES-2, Coast Guard, telephone 202-372-1386, email William.A.Nabach@uscg.mil.

SUPPLEMENTARY INFORMATION:

In FR Doc. 2016-12857 appearing on page 40004 in the Federal Register of Monday, June 20, 2016, the following corrections are made:

§ 143.300 [Corrected]

1. On page 40137, in the second column, in § 143.300 Pressure Vessels, in paragraph (d), “Pressure vessels installed after July 20, 2016 must meet the requirements of § 143.545.” is corrected to read “Pressure vessels installed after July 20, 2018, or the date the vessel obtains a Certificate of Inspection (COI), whichever date is earlier, must meet the requirements of § 143.545.”.

§ 144.105 [Corrected]

2. On page 40141, in the third column, in § 144.105 Applicability and delayed implementation, in paragraph (c), the date “July 20, 2016” is corrected to read “July 20, 2017”.

§ 144.135 [Corrected]

3. On page 40142, in Table 144.135, in paragraph (c), “A vessel on which a new installation that is not a “replacement in kind” is to be made after July 20, 2016.” is corrected to read “A vessel on which a new installation that is not a “replacement in kind.””

Dated: July 18, 2016.
J.G. Lantz,
Director of Commercial Regulations and Standards.

[FR Doc. 2016-17224 Filed 7-20-16; 8:45 am]

BILLING CODE 9110-04-P